DEPARTMENT OF TRANSPORTATION

Pipeline and Hazardous Materials Safety Administration

[Docket: PHMSA-99-6355]

Request for Public Comments and Office of Management and Budget (OMB) Approval of an Existing Information Collection (2137-0604)

AGENCY: Pipeline and Hazardous Materials Safety Administration (PHMSA), DOT.

SUMMARY: This notice requests public participation in the OMB approval process regarding the renewal of an existing PHMSA collection of information. This renewal of information complies with the integrity management rule for hazardous liquid pipelines for operators with more than 500 miles of pipeline. PHMSA is requesting OMB approval for renewal of this information collection under the Paperwork Reduction Act of 1995. With this notice, PHMSA invites the public to submit comments over the next 60 days on ways to minimize the burden associated with the collection of information related to an operator's Integrity Management Program on line segments that could affect High Consequence Areas.

DATES: Comments must be submitted on or before August 15, 2006.

ADDRESSES: Comments should reference Docket No. PHMSA-99-6355 and may be submitted in the following ways:

• DOT Web Site: http://dms.dot.gov. To submit comments on the DOT electronic docket site, click “Comment/Submissions,” click “Continue,” fill in the requested information, click “Continue,” enter your comment, then click “Submit.”

• Fax: 1-202-493-2251.

• Mail: Docket Management System: U.S. Department of Transportation, 400 Seventh Street, SW., Nassif Building, Room PL-401, Washington, DC 20590-0001.

• Hand Delivery: DOT Docket Management System; Room PL-401 on the plaza level of the Nassif Building, 400 Seventh Street, SW., Washington, DC between 9 a.m. and 5 p.m., Monday through Friday, except Federal holidays.

• E-Gov Web Site: http://www.Regulations.gov. This site allows the public to enter comments on any Federal Register notice issued by any agency.

Instructions: You should identify the docket number, PHMSA-99-6355, at the beginning of your comments. If you submit your comments by mail, you should submit two copies. If you wish to receive confirmation that PHMSA received your comments, you should include a self-addressed stamped postcard. Internet users may submit comments at http://www.regulations.gov, and may access all comments received by DOT at http://dms.dot.gov by performing a simple search for the docket number.

Note: All comments will be posted without changes or edits to http://dms.dot.gov including any personal information provided.

Privacy Act Statement: Anyone may search the electronic form of all comments received for any of our dockets. You may review DOT's complete Privacy Act Statement in the Federal Register published on April 11, 2000 (65 FR 19477) or you may visit http://dms.dot.gov.

FOR FURTHER INFORMATION CONTACT: William Fuentevilla at (202) 366-6199, or by e-mail at William.Fuentevilla@dot.gov.

SUPPLEMENTARY INFORMATION: Comments are invited on whether the proposed collection of information is necessary for the proper performance of the functions of the Department. These include (1) whether the information will have practical utility; (2) the accuracy of the Department's estimate of the burden of the proposed information collections; (3) ways to enhance the quality, utility, and clarity of the information to be collected; and (4) ways to minimize the burden of the collection of information on respondents, including the use of automated collection techniques or other forms of information technology.

Through the Integrity Management Program (49 CFR 195.452), PHMSA requires operators to develop and follow integrity management programs to assess, evaluate, repair, and validate pipeline segments that could impact high consequence areas in the event of leak or failure. The programs must provide for continual assessment of pipeline segments that could affect populated areas, areas unusually sensitive to environmental damage and commercially navigable waterways. Pipeline operators must keep updated written records associated with their programs and have them available for inspection, and submit relevant notices to PHMSA as specified by the regulation.

As used in this notice, the term “information collection” includes all work related to preparing and disseminating information related to this recordkeeping requirement including completing paperwork, gathering information, and conducting telephone calls.

Type of Information Collection Request: Renewal of Existing Collection.

Title of Information Collection: Pipeline Integrity Management in High Consequence Areas (Operators with more than 500 Miles of Hazardous Liquid Pipelines).

Respondents: 71 hazardous liquid pipeline operators with more than 500 miles of pipes.

Estimated Total Annual Burden on Respondents: 57,510 hours.

Issued in Washington, DC on June 9, 2006.
Florence L. Hamn,
Director of Regulations, Office of Pipeline Safety.

[FR Doc. E6-9405 Filed 6-15-06; 8:45 am]

BILLING CODE 4910-60-P